Proclamation 10502 of November 30, 2022

World AIDS Day, 2022

By the President of the United States of America

A Proclamation

On World AIDS Day, we recommit to ending the HIV epidemic in the United States and around the world and rededicate ourselves to fighting the discrimination that too often keeps people with HIV from getting the services they need and living the full lives they deserve.

It was long hard to imagine, but today, we are within striking distance of eliminating HIV transmission worldwide. Thanks to the incredible dedication of scientists, activists, health care workers, caregivers, and so many others, we have made enormous progress preventing, detecting, and treating HIV; reducing case counts and AIDS-related deaths; and freeing millions of people to enjoy long, healthy lives. Still, not everyone has equal access to that care. And for the more than 38 million people around the world now living with HIV—especially members of the LGBTQI+ community, communities of color, women, and girls—a diagnosis is still life-altering. We can do better.

When I became President, we reestablished the White House Office of National AIDS Policy and released a roadmap to accelerate efforts to end the HIV epidemic in the United States by 2030. Federal agencies have committed to nearly 400 related actions, working with stakeholders across the country to make the latest advances in HIV prevention, diagnosis, and treatment available to everyone. I have asked the Congress for $850 million to increase the use of preexposure prophylaxis (PrEP), expand treatment, and fight the stigma that stops many people from getting care. We are working to remove barriers to employment, with our Armed Forces, for example, ending blanket restrictions on HIV-positive service members being deployed or commissioned. And we are calling on States to repeal or reform so-called HIV criminalization laws, which wrongly punish people for exposing others to HIV. These outdated laws have no basis in science, and they serve to discourage testing and further marginalize HIV-positive people.

Our important work to end HIV extends far beyond our borders too, with continued support for the game-changing, bipartisan President's Emergency Plan for AIDS Relief (PEPFAR). Since 2003, PEPFAR has helped at least 12 high disease-burdened countries bring HIV under control and has saved over 25 million lives. Its efforts to make HIV prevention and treatment services more accessible have achieved a 65 percent reduction in new HIV cases in males 15 to 24 years old and a 50 percent reduction in new HIV cases among females the same age since 2010. And its flagship Determined, Resilient, Empowered, AIDS-free, Mentored and Safe (DREAMS) public-private partnership has reached millions of adolescent girls and young women, reducing new HIV infections in areas where the program operates. My Administration has also pledged up to $6 billion to the Seventh Replenishment of the Global Fund to Fight AIDS, Tuberculosis, and Malaria—an initiative that has saved an estimated 50 million lives to date. I am asking other international donors to match that commitment so we can together deliver on the promise of health and well-being for millions around the world.

We still have a hard road ahead, especially in addressing racial and gender gaps in our health systems, which have long driven inequitable HIV outcomes at home and abroad. But as we today honor the 700,000 Americans and 40 million lives lost worldwide to AIDS-related illnesses over the years, we have new hope in our hearts. We finally have the scientific understanding, treatments, and tools to build an AIDS-free future where everyone—no matter who they are, where they come from, or whom they love—can get the care and respect they deserve.

NOW, THEREFORE, I, JOSEPH R. BIDEN JR., President of the United States of America, by virtue of the authority vested in me by the Constitution and the laws of the United States, do hereby proclaim December 1, 2022, as World AIDS Day. I urge the Governors of the United States and its Commonwealths and Territories, the appropriate officials of all units of government, and the American people to join the HIV community in activities to remember those who have lost their lives to AIDS and to provide support, dignity, and compassion to people with HIV.

IN WITNESS WHEREOF, I have hereunto set my hand this thirtieth day of November, in the year of our Lord two thousand twenty-two, and of the Independence of the United States of America the two hundred and forty-seventh.

[FR Doc. 2022-26606

Filed 12-5-22; 8:45 am]

Billing code 3395-F3-P